DEPARTMENT OF THE INTERIOR

Fish and Wildlife Service

[FWS-R1-ES-2009-N164; 10120-1113-0000-F5]

Endangered Wildlife and Plants; Permits

AGENCY: Fish and Wildlife Service, Interior.

ACTION: Notice of availability of permit applications; request for comments.

SUMMARY: We, the U.S. Fish and Wildlife Service (Service), invite the public to comment on the following applications for a permit to conduct certain activities with endangered species under the Endangered Species Act of 1973, as amended (Act), which requires that we solicit public comment on permit applications involving endangered species.

DATES: We must receive your written data or comments by September 25, 2009.

ADDRESSES: Program Manager, Endangered Species, Ecological Services, U.S. Fish and Wildlife Service, 911 NE. 11th Avenue, Portland, OR 97232-4181.

FOR FURTHER INFORMATION CONTACT: Grant Canterbury, Fish and Wildlife Biologist, at the above address or by telephone (503-231-2071) or fax (503-231-6243).

SUPPLEMENTARY INFORMATION: The following applicants have applied for a scientific research permit to conduct certain activities with endangered species under section 10(a)(1)(A) of the Act (16 U.S.C. 1531 et seq.). We are soliciting review of and comment on these applications by local, State, and Federal agencies and the public.

Permit No. TE188214

Applicant: Richard Pender, Honolulu, Hawaii.

The applicant requests a scientific research permit to remove and reduce to possession Clermontia pyrularia (`oha wai) and to take (collect voucher specimens) the pomace fly (Drosophila heteroneura and or D. ochrobasis) in conjunction with research in the State of Hawaii, for the purpose of enhancing their survival.

Permit No. TE003483

Applicant: U.S. Geological Survey, Biological Resources Discipline, Hawaii National Park, Hawaii.

The applicant requests a permit amendment to take (inoculate) the Laysan duck (Anas laysanensis) in conjunction with prevention of botulism type C in the State of Hawaii, for the purpose of enhancing its survival.

Public Comments

Please refer to the permit number for the application when submitting comments.

We are soliciting public review and comment on these recovery permit applications. Before including your address, phone number, e-mail address, or other personal identifying information in your comment, you should be aware that your entire comment—including your personal identifying information—may be made publicly available at any time. While you can ask us in your comment to withhold your personal identifying information from public review, we cannot guarantee that we will be able to do so.

All comments and materials we receive in response to this request will be available for public inspection, by appointment, during normal business hours at the above address.

Dated: August 18, 2009.
David J. Wesley,
Acting Regional Director, Region 1, U.S. Fish and Wildlife Service.

[FR Doc. E9-20585 Filed 8-25-09; 8:45 am]

BILLING CODE 4310-55-P